DEPARTMENT OF HOMELAND SECURITY

Coast Guard

33 CFR Parts 100 and 165

[Docket No. USCG-2012-0970]

RIN 1625-AA00, AA08

Special Local Regulations and Safety Zones; Recurring Marine Events and Fireworks Displays Within the Fifth Coast Guard District

AGENCY: Coast Guard, DHS.

ACTION: Final rule.

SUMMARY: The Coast Guard is issuing a final rule that revises the list of special local regulations and safety zones established for recurring marine events and fireworks displays at various locations within the geographic boundary of the Fifth Coast Guard District. This adds 15 new annual recurring marine events and fireworks display locations; it revises event date(s) and coordinates for 31 previously established locations within the geographic boundary of the Fifth Coast Guard District. This rule also deletes 21 previously listed marine events, fireworks displays and corresponding regulated areas that no longer occur. Entry into or movement within the regulated areas during the enforcement periods is prohibited without approval of the appropriate Captain of the Port.

DATES: This rule is effective June 20, 2013.

ADDRESSES: Documents mentioned in this preamble are part of docket [USCG-2012-0970]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email, Dennis Sens, Prevention Division, Fifth Coast Guard District; telephone (757) 398-6204, email Dennis.M.Sens@uscg.mil. If you have questions on viewing or submitting material to the docket, call Barbara Hairston, Program Manager, Docket Operations, telephone (202) 366-9826.

SUPPLEMENTARY INFORMATION:

Table of Acronyms

DHS Department of Homeland Security

FR Federal Register

NPRM Notice of Proposed Rulemaking

A. Regulatory History and Information

Previously, the special local regulations listed in 33 CFR 100.501 were amended in the January 19, 2012, issue of the Federal Register (77 FR 2632). The purpose of the rulemaking was to revise the Table to 33 CFR 100.501 by adding new annual recurring marine events, modifying event dates for previously established locations within the geographic boundary of the Fifth Coast Guard District; and deleting previously listed marine events and corresponding regulated areas that no longer occur.

The safety zones at 33 CFR 165.506 were previously amended in the March 23, 2012, issue of the Federal Register (77 FR 16932). The Coast Guard revised the list of permanent safety zones in the Table to 33 CFR 165.506, for recurring fireworks displays, by adding new locations, deleting previously established locations and modifying previously established locations within the geographic boundary of the Fifth Coast Guard District.

On February 28, 2013, we published a notice of proposed rulemaking (NPRM) entitled “Special Local Regulations and Safety Zones; Recurring Marine Events and Fireworks Displays within the Fifth Coast Guard District” in the Federal Register (78 FR 13576). We received no comments on the proposed rule.

B. Basis and Purpose

The Coast Guard is revising the list of permanent special local regulations at 33 CFR 100.501 and safety zones at 33 CFR 165.506, established for recurring marine events and fireworks displays at various locations within the geographic boundary of the Fifth Coast Guard District. The Fifth Coast Guard District is comprised of the land areas and U.S. navigable waters adjacent to North Carolina, Virginia, District of Columbia, Maryland, Delaware and portions of Pennsylvania and New Jersey. For a detailed description of the geographical area of the district and each Coast Guard Sector—Captain of the Port Zone, please see 33 CFR 3.25.

This rulemaking updates existing regulations in an effort to reflect the most current information provided to the Fifth Coast Guard District for marine events within its area of operations.

The purpose of this rulemaking is to ensure the safety of life on navigable waters during marine events, fireworks displays and provide the marine community the opportunity to comment on regulated area and safety zone locations, size, and length of time the zones will be active.

Special Local Regulations

Under 33 CFR 100.35, the Coast Guard District Commander has authority to promulgate certain special local regulations deemed necessary to ensure the safety of life on the navigable waters immediately before, during, and immediately after an approved regatta or marine parade. Currently there are 59 special local regulations that are established and enforced at various periods throughout the year that are held on an annual basis. This rule will decrease the total number of special local regulations to 51 locations for marine events within the boundary of the Fifth Coast Guard District. This regulation includes events such as sailing regattas, power boat races, swim races, holiday parades, crew and other paddle craft races. The Coast Guard is revising the list of special local regulations at 33 CFR 100.501, established for various marine events, by adding 7 new annual recurring events and revising 13 previously established locations within the geographic boundary of the Fifth Coast Guard District. This rule also deletes 15 previously listed marine events and corresponding regulated areas that are no longer occurring.

Safety Zones

Under 33 CFR 165.23, the Coast Guard District Commander has authority to promulgate certain safety zones deemed necessary to ensure the safety of life on the navigable waters immediately before, during, and immediately after an approved fireworks displays. In this rule the Coast Guard revises the list of permanent safety zones at 33 CFR 165.506, established for fireworks displays at various locations within the geographic boundary of the Fifth Coast Guard District. Currently there are 74 permanent safety zones established for fireworks displays within the geographic boundaries of the Fifth Coast Guard District. This rule will increase the total number of permanent safety zones to 76 locations for fireworks displays within the boundary of the Fifth Coast Guard District. The Coast Guard is revising the list of permanent safety zones at 33 CFR 165.506, established for fireworks displays, by adding 8 new locations, modifying 18 previously established locations and deleting 6 previously established locations within the geographic boundary of the Fifth Coast Guard District.

C. Discussion of Comments, Changes and the Final Rule

The Coast Guard did not receive comments in response to the notice of proposed rulemaking (NPRM) published in the Federal Register. Accordingly, the Coast Guard is establishing 51 Special local regulations for marine events and 76 safety zones on the specified navigable waters as listed within the Table to § 100.501 and § 165.506 respectively.

Subsequent to publication of the NPRM the Coast Guard received additional information from marine event sponsors who desire to change date(s) for their specified events. Change of dates for two marine events listed in the Table to § 100.501 were made by the Coast Guard. This change included the “TriRock Triathlon Series” race sponsored by Competitor Group Inc. and listed as (b.)3 in the Table to § 100.501 was changed to “July—3rd or 4th Saturday”. The “Swim Across the Potomac” sponsored by U.S. Open Water Swimming Association—Wave One Swimming and listed as (b.)16 in the Table to § 100.501 was changed to “June—1st Sunday”. These changes will be included in marine information broadcasts, notice to local mariners as well as event updates provided by local media outlets.

D. Discussion of the Final Rule

This rule will apply to each event listed in the attached tables to this rule. Events listed in the tables are events that recur annually in the Fifth Coast Guard District. The tables provide the event name and sponsor, as well as an approximate date and location of the event.

For each event listed in the table, an event patrol, with a Patrol Commander in charge, may be assigned. The Patrol Commander may control the movement of all vessels in the regulated area(s). When hailed or signaled by an official patrol vessel, a vessel in these areas would be required to immediately comply with the directions given. Failure to do so may result in expulsion from the area, citation for failure to comply, or both. The Coast Guard Patrol Commander may terminate the event, or the operation of any vessel participating in the event, at any time it is deemed necessary for the protection of life or property. Only event organizers, designated participants, and official patrol vessels will be allowed to enter a regulated area. All persons and vessels not registered with the event sponsor or organizer as participants or official patrol vessels are considered spectators. Spectators may not enter the regulated area and may be confined to a designated spectator area to view the event. Spectators may contact the Coast Guard Patrol Commander to request permission to pass through the regulated area. If permission is granted, spectators would be required to pass directly through the regulated area at safe speed and without loitering.

E. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect the economic impact of this rule to be so minimal that a full Regulatory Evaluation is unnecessary. This finding is based on the short amount of time that vessels would be restricted from regulated areas, and the small size of these areas that are typically positioned away from high vessel traffic zones. Vessels would not be precluded from getting underway, or mooring at any piers or marinas currently located in the vicinity of the regulated areas. Advance notifications would also be made to the local maritime community by issuing Local Notice to Mariners, Marine information and facsimile broadcasts so mariners can adjust their plans accordingly. Notifications to the public for most events will usually be made by local newspapers, radio and TV stations. The Coast Guard anticipates that these special local regulated areas and safety zones will only be enforced 1 to 3 times per year.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard did not receive comments from the Small Business Administration on this rule. The Coast Guard certifies under 5 U.S.C. 605(b) that this rule will not have a significant economic impact on a substantial number of small entities. This rule will affect the following entities some of which may be small entities: The owners and operators of vessels intending to transit or anchor in the regulated areas during the times these zones are enforced.

These regulated areas and safety zones will not have a significant economic impact on a substantial number of small entities for the following reasons: The Coast Guard will ensure that small entities are able to operate in the areas where events are occurring to the extent possible while ensuring the safety of event participants and spectators. The enforcement period will be short in duration and, in many of the areas, vessels can transit safely around the regulated area. Generally, blanket permission to enter, remain in, or transit through these regulated areas will be given except during the period that the Coast Guard patrol vessel is present. Before the enforcement period, we will issue maritime advisories widely.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves implementation of regulations under 33 CFR part 100 that apply to organized marine events on the navigable waters of the United States that may have potential for negative impact on the safety or other interest of waterway users and shore side activities in the event area. The category of water activities includes but is not limited to sail boat regattas, boat parades, power boat racing, swimming events, crew racing, and sail board racing. This section of the rule is categorically excluded from further review under paragraph 34(h) of Figure 2-1 of the Commandant Instruction. An environmental analysis checklist supporting this determination and a Categorical Exclusion Determination are not required for this section of the rule.

This rule involves implementation of regulations under 33 CFR part 165 that establish safety zones on navigable waters of the United States for fireworks events. These safety zones are enforced for the duration of fireworks display events. The fireworks are launched from or immediately adjacent to navigable waters of the United States. The category of activities includes fireworks launched from barges or near the shoreline that generally rely on the use of navigable waters as a safety buffer. This section of the rule is categorically excluded from further review under paragraph 34(g) of Figure 2-1 of the Commandant Instruction. An environmental analysis checklist supporting this determination and a Categorical Exclusion Determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and part 165 as follows:

PART 100—SAFETY OF LIFE ON NAVIGABLE WATERS

1. The authority citation for part 100 continues to read as follows:

Authority: 33 U.S.C. 1233.

2. Amend § 100.501 by revising the Table to § 100.501 to read as follows:

§ 100.501 Special Local Regulations; Marine Events in the Fifth Coast Guard District.

* * * * *

All coordinates listed in the Table to § 100.501 reference Datum NAD 1983.

Table to § 100.501
No. | Date | Event | Sponsor | Location
(a.) Coast Guard Sector Delaware Bay—COTP Zone
1. | June—1st Sunday | Atlantic County Day at the Bay | Atlantic County, New Jersey | The waters of Great Egg Harbor Bay, adjacent to Somers Point, New Jersey, bounded by a line drawn along the following boundaries: the area is bounded to the north by the shoreline along John F. Kennedy Park and Somers Point, New Jersey; bounded to the east by the State Route 52 bridge; bounded to the south by a line that runs along latitude 39°18′00″ N; and bounded to the west by a line that runs along longitude 074°37′00″ W.
2. | May—3rd Sunday | Annual Escape from Fort Delaware Triathlon | Escape from Fort Delaware Triathlon, Inc | All waters of the Delaware River between Pea Patch Island and Delaware City, Delaware, bounded by a line connecting the following points: latitude 39°36′35.7″ N, longitude 075°35′25.6″ W, to latitude 39°34′57.3″ N, longitude 075°33′23.1″ W, to latitude 39°34′11.9″ N, longitude 075°34′28.6″ W, to latitude 39°35′52.4″ N, longitude 075°36′33.9″ W.
3. | June—Last Saturday | Westville Parade of Lights | Borough of Westville and Westville Power Boat | All waters of Big Timber Creek in Westville, NJ from shoreline to shoreline bounded on the south from the Route 130 Bridge and to the north by the entrance of the Delaware River.
4. | July—3rd Sunday | OPA Atlantic City Grand Prix | Offshore Performance Assn. (OPA) | The waters of the Atlantic Ocean, adjacent to Atlantic City, New Jersey, bounded by a line drawn between the following points: southeasterly from a point along the shoreline at latitude 39°21′50″ N, longitude 074°24′37″ W, to latitude 39°20′40″ N, longitude 074°23′50″ W, thence southwesterly to latitude 39°19′33″ N, longitude 074°26′52″ W, thence northwesterly to a point along the shoreline at latitude 39°20′43″ N, longitude 074°27′40″ W, thence northeasterly along the shoreline to latitude 39°21′50″ N, longitude 074°24′37″ W.
5. | July—On or about July 4th | U.S. holiday celebrations | City of Philadelphia | The waters of the Delaware River, adjacent to Philadelphia, PA and Camden, NJ, from shoreline to shoreline, bounded on the south by the Walt Whitman Bridge and bounded on the north by the Benjamin Franklin Bridge.
6. | August—2nd Friday, Saturday and Sunday | Point Pleasant OPA/NJ Offshore Grand Prix | Offshore Performance Association (OPA) and New Jersey Offshore Racing Assn | The waters of the Atlantic Ocean bounded by a line drawn from a position along the shoreline near Normandy Beach, NJ at latitude 40°00′00″ N, longitude 074°03′30″ W, thence easterly to latitude 39°59′40″ N, longitude 074°02′00″ W, thence southwesterly to latitude 39°56′35″ N, longitude 074°03′00″ W, thence westerly to a position near the Seaside Heights Pier at latitude 39°56′35″ N, longitude 074°04′15″ W, thence northerly along the shoreline to the point of origin.
7. | July—3rd Wednesday and Thursday | New Jersey Offshore Grand Prix | Offshore Performance Assn. & New Jersey Offshore Racing Assn | The waters of the Manasquan River from the New York and Long Branch Railroad to Manasquan Inlet, together with all of the navigable waters of the United States from Asbury Park, New Jersey, latitude 40°14′00″ N; southward to Seaside Park, New Jersey, latitude 39°55′00″ N, from the New Jersey shoreline seaward to the limits of the Territorial Sea. The race course area extends from Asbury Park to Seaside Park from the shoreline, seaward to a distance of 8.4 nautical miles.
8. | August—3rd Friday | Thunder Over the Boardwalk Air show | Atlantic City Chamber of Commerce | The waters of the Atlantic Ocean, adjacent to Atlantic City, New Jersey, bounded by a line drawn between the following points: southeasterly from a point along the shoreline at latitude 39°21′31″ N, longitude 074°25′04″ W, thence to latitude 39°21′08″ N, longitude 074°24′48″ W, thence southwesterly to latitude 39°20′16″ N, longitude 074°27′17″ W, thence northwesterly to a point along the shoreline at latitude 39°20′44″ N, longitude 074°27′31″ W, thence northeasterly along the shoreline to latitude 39°21′31″ N, longitude 074°25′04″ W.
9. | September—3rd Saturday | Annual Escape from Fort Delaware Triathlon | Escape from Fort Delaware Triathlon, Inc | All waters of the Delaware River between Pea Patch Island and Delaware City, Delaware, bounded by a line connecting the following points: latitude 39°36′35.7″ N, longitude 075°35′25.6″ W, to latitude 39°34′57.3″ N, longitude 075°33′23.1″ W, to latitude 39°34′11.9″ N, longitude 075°34′28.6″ W, to latitude 39°35′52.4″ N, longitude 075°36′33.9″ W.
10. | September—last Friday, Saturday and Sunday; October—first Friday, Saturday and Sunday | Sunset Lake Hydrofest | Sunset Lake Hydrofest Assn | All waters of Sunset Lake, New Jersey, from shoreline to shoreline, south of latitude 38°58′32″ N.
11. | October—2nd Saturday and Sunday | The Liberty Grand Prix | Offshore Performance Assn. (OPA) | The waters of the Delaware River, adjacent to Philadelphia, PA and Camden, NJ, from shoreline to shoreline, bounded on the south by the Walt Whitman Bridge and bounded on the north by the Benjamin Franklin Bridge.
12. | October—1st Monday (Columbus Day) | U.S. holiday celebrations | City of Philadelphia | The waters of the Delaware River, adjacent to Philadelphia, PA and Camden, NJ, from shoreline to shoreline, bounded on the south by the Walt Whitman Bridge and bounded on the north by the Benjamin Franklin Bridge.
13. | December—On December 31st (New Year's Eve) | U.S. holiday celebrations | City of Philadelphia | The waters of the Delaware River, adjacent to Philadelphia, PA and Camden, NJ, from shoreline to shoreline, bounded on the south by the Walt Whitman Bridge and bounded on the north by the Benjamin Franklin Bridge.
14. | September—Third Sunday | Ocean City Air Show | Ocean City, NJ | All waters of the New Jersey Intracoastal Waterway (ICW) bounded by a line connecting the following points; latitude 39°15′57″ N, longitude 074°35′09″ W thence northeast to latitude 39°16′34″ N, longitude 074°33′54″ W thence southeast to latitude 39°16′17″ N, longitude 074°33′29″ W thence southwest to latitude 39°15′40″ N, longitude 074°34′46″ W thence northwest to point of origin, near Ocean City, NJ.
15. | September—3rd Sunday | Atlantic City International Triathlon | Atlantic City, NJ | All waters of the New Jersey Intracoastal Waterway (ICW) bounded by a line connecting the following points; latitude 39°21′20″ N, longitude 074°27′18″ W thence northeast to latitude 39°21′27.47″ N, longitude 074°27′10.31″ W thence northeast to latitude 39°21′33″ N, longitude 074°26′57″ W thence northwest to latitude 39°21′37″ N, longitude 074°27′03″ W thence southwest to latitude 39°21′29.88″ N, longitude 074°27′14.31″ W thence south to latitude 39°21′19″ N, longitude 074°27′22″ W thence east to latitude 39°21′18.14″ N, longitude 074°27′19.25″ W thence north to point of origin, near Atlantic City, NJ.
(b.) Coast Guard Sector Baltimore—COTP Zone
1. | March—4th or last Saturday; or April—1st Saturday | Safety at Sea Seminar | U.S. Naval Academy | All waters of the Severn River from shoreline to shoreline, bounded to the northwest by the Naval Academy (SR-450) Bridge and bounded to the southeast by a line drawn from the Naval Academy Light at latitude 38°58′39.5″ N, longitude 076°28′49″ W thence easterly to Carr Point, MD at latitude 38°58′58″ N, longitude 076°27′41″ W.
2. | March—3rd, 4th or last Friday, Saturday and Sunday; April and May—every Friday, Saturday and Sunday | USNA Crew Races | U.S. Naval Academy | All waters of the Severn River from shoreline to shoreline, bounded to the northwest by a line drawn from the south shoreline at latitude 39°00′58″ N, longitude 076°31′32″ W thence to the north shoreline at latitude 39°01′11″ N, longitude 076°31′10″ W. The regulated area is bounded to the southeast by a line drawn from the Naval Academy Light at latitude 38°58′39.5″ N, longitude 076°28′49″ W thence easterly to Carr Point, MD at latitude 38°58′58″ N, longitude 076°27′41″ W.
3. | July—3rd or 4th Saturday | TriRock Triathlon Series | The Competitor Group | The waters of Spa Creek and Annapolis Harbor, from shoreline to shoreline, bounded by a line drawn near entrance of Spa Creek originating at USNA seawall, latitude 38°58′40″ N, longitude 076°28′49″ W, thence south to latitude 38°58′32″ N, longitude 076°28′45″ W near Sycamore Point. The regulated area is bounded to the southwest by a line drawn from entrance of Annapolis Market Slip, latitude 38°58′34″ N, longitude 076°29′05″ W thence south to latitude 38°58′27″ N, longitude 076°28′56″ W near Chart House pier, Annapolis, MD.
4. | May—1st Sunday | Nanticoke River Swim and Triathlon | Nanticoke River Swim and Triathlon, Inc | All waters of the Nanticoke River, including Bivalve Channel and Bivalve Harbor, bounded by a line drawn from a point on the shoreline at latitude 38°18′00″ N, longitude 075°54′00″ W, thence westerly to latitude 38°18′00″ N, longitude 075°55′00″ W, thence northerly to latitude 38°20′00″ N, longitude 075°53′48″ W, thence easterly to latitude 38°19′42″ N, longitude 075°52′54″ W.
5. | May—Saturday before Memorial Day | Chestertown Tea Party Re-enactment Festival | Chestertown Tea Party Festival | All waters of the Chester River, within a line connecting the following positions: latitude 39°12′27″ N, longitude 076°03′46″ W; thence to latitude 39°12′19″ N, longitude 076°03′53″ W; thence to latitude 39°12′15″ N, longitude 076°03′41″ W; thence to latitude 39°12′26″ N, longitude 076°03′38″ W; thence to the point of origin at latitude 39°12′27″ N, longitude 076°03′46″ W.
6. | May—3rd Friday, Saturday and Sunday | Dragon Boat Races at Georgetown, Washington, D.C | Washington, D.C. Dragon Boat Festival, Inc | The waters of the Upper Potomac River, Washington, DC, from shoreline to shoreline, bounded upstream by the Francis Scott Key Bridge and downstream by the Roosevelt Memorial Bridge.
7. | May—Tuesday and Wednesday before Memorial Day (observed) | USNA Blue Angels Air Show | U.S. Naval Academy | All waters of the Severn River from shoreline to shoreline, bounded to the northwest by a line drawn from the south shoreline at latitude 39°00′38.9″ N, longitude 076°31′05.2″ W thence to the north shoreline at latitude 39°00′54.7″ N, longitude 076°30′44.8″ W, this line is approximately 1300 yards northwest of the U.S. 50 fixed highway bridge. The regulated area is bounded to the southeast by a line drawn from the Naval Academy Light at latitude 38°58′39.5″ N, longitude 076°28′49″ W thence southeast to a point 700 yards east of Chinks Point, MD at latitude 38°58′1.9″ N, longitude 076°28′1.7″ W thence northeast to Greenbury Point at latitude 38°58′29″ N, longitude 076°27′16″ W.
8. | June—2nd Sunday | The Great Chesapeake Bay Bridges Swim Races | Great Chesapeake Bay Swim, Inc | The waters of the Chesapeake Bay between and adjacent to the spans of the William P. Lane Jr. Memorial Bridge shore to shore 500 yards north of the north span of the bridge from the western shore at latitude 39°00′36″ N, longitude 076°23′05″ W and the eastern shore at latitude 38°59′14″ N, longitude 076°20′00″ W, and 500 yards south of the south span of the bridge from the western shore at latitude 39°00′16″ N, longitude 076°24′30″ W and the eastern shore at latitude 38°58′38.5″ N, longitude 076°20′06″ W.
9. | June—3rd, 4th or last Saturday or July—2nd or 3rd Saturday | Maryland Swim for Life | District of Columbia Aquatics Club | The waters of the Chester River from shoreline to shoreline, bounded on the south by a line drawn at latitude 39°10′16″ N, near the Chester River Channel Buoy 35 (LLN-26795) and bounded on the north at latitude 39°12′30″ N by the Maryland S.R. 213 Highway Bridge.
10. | June—last Saturday and Sunday or July—2nd Saturday and Sunday | Bo Bowman Memorial—Sharptown Regatta | Virginia/Carolina Racing Assn | All waters of the Nanticoke River near Sharptown, MD, from shoreline to shoreline, bounded to the south by Maryland S.R. 313 Highway Bridge and bounded to the north by a line drawn from latitude 38°33′09″ N, longitude 075°42′45″ W, thence southeasterly to latitude 38°33′04″ N, longitude 075°42′37″ W.
11. | June—2nd, 3rd, 4th or last Saturday and Sunday or August—1st Saturday and Sunday | Thunder on the Narrows | Kent Narrows Racing Assn | All waters of Prospect Bay enclosed by the following points: latitude 38°57′52.0″ N, longitude 076°14′48.0″ W, to latitude 38°58′02.0″ N, longitude 076°15′05.0″ W, to latitude 38°57′38.0″ N, longitude 076°15′29.0″ W, to latitude 38°57′28.0″ N, longitude 076°15′23.0″ W, to latitude 38°57′52.0″ N, longitude 076°14′48.0″ W.
12. | Labor Day weekend —Saturday and Sunday, or Monday | Ragin on the River | Port Deposit, MD, Chamber of Commerce | The waters of the Susquehanna River, adjacent to Port Deposit, Maryland, from shoreline to shoreline, bounded on the south by the U.S. I-95 fixed highway bridge, and bounded on the north by a line running southwesterly from a point along the shoreline at latitude 39°36′22″ N, longitude 076°07′08″ W, thence to latitude 39°36′00″ N, longitude 076°07′46″ W.
13. | September—2nd Saturday or the Saturday after Labor Day | Dragon Boat Races in the Inner Harbor | Associated Catholic Charities, Inc | The waters of the Patapsco River, Baltimore, MD, Inner Harbor from shoreline to shoreline, bounded on the east by a line drawn along longitude 076°36′30″ W.
14. | June—3rd, 4th or last Saturday or Sunday | Baltimore Dragon Boat Challenge | Baltimore Dragon Boat Club | The waters of Patapsco River, Northwest Harbor, in Baltimore, MD, from shoreline to shoreline, within an area bounded on the east by a line drawn along longitude 076°35′ W and bounded on the west by a line drawn along longitude 076°36′.
15. | May—2nd or 3rd Saturday or June—1st, 2nd or 3rd Saturday | Potomac River Sharkfest Swim | Enviro-Sports Productions Inc | The waters of the Potomac River, from shoreline to shoreline, bounded by a line drawn parallel and north of the Harry W. Nice Memorial Bridge (U.S. Route 301) originating at the eastern shoreline latitude 38°22′05″ N, longitude 076°59′03″ W, thence west to latitude 38°21′50″ N, longitude 077°00′54″ W, at the western shoreline. The regulated area is bounded by a line drawn parallel and south of the U.S. Route 301 highway bridge, originating at the eastern shoreline latitude 38°21′45″ N, longitude 076°58′58″ W thence west to latitude 38°21′29″ N, longitude 077°00′54″ W, at the western shoreline of Potomac River.
16. | June—1st Sunday | Swim Across the Potomac | U.S. Open Water Swimming Assn.—Wave One Swimming | The waters of the Potomac River, from shoreline to shoreline, bounded to the north by a line drawn that originates at Jones Point Park, VA at the west shoreline latitude 38°47′35″ N, longitude 077°02′22″ W, thence east to latitude 38°47′12″ N, longitude 077°00′58″ W, at east shoreline near National Harbor, MD. The regulated area is bounded to the south by a line drawn originating at George Washington Memorial Parkway highway overpass and Cameron Run, west shoreline latitude 38°47′23″ N, longitude 077°03′03″ W thence east to latitude 38°46′52″ N, longitude 077°01′13″ W, at east shoreline near National Harbor, MD.
17. | October—last Saturday or November—1st Saturday | MRE Tug of War | Maritime Republic of Eastport | The waters of Spa Creek from shoreline to shoreline, extending 400 feet from either side of a rope spanning Spa Creek from a position at latitude 38°58′36.9″ N, longitude 076°29′03.8″ W on the Annapolis shoreline to a position at latitude 38°58′26.4″ N, longitude 076°28′53.7″ W on the Eastport shoreline.
18. | December—2nd Saturday | Eastport Yacht Club Lighted Boat Parade | Eastport Yacht Club | The approaches to Annapolis Harbor, the waters of Spa Creek, and the Severn River, shore to shore, bounded on the south by a line drawn from Carr Point, at latitude 38°58′58.0″ N, longitude 076°27′40.0″ W, thence to Horn Point Warning Light (LLNR 17935), at 38°58′24.0″ N, longitude 076°28′10.0″ W, thence to Horn Point, at 38°58′20.0″ N, longitude 076°28′27.0″ W, and bounded on the north by the State Route 450 Bridge.
19. | Memorial Day weekend—Thursday, Friday, Saturday and Sunday, or Labor Day weekend—Thursday, Friday, Saturday and Sunday | NAS Patuxent River Air Expo | U.S. Naval Air Station Patuxent River, MD | All waters of the lower Patuxent River, near Solomons, Maryland, located between Fishing Point and the base of the break wall marking the entrance to the East Seaplane Basin at Naval Air Station Patuxent River, within an area bounded by a line connecting position latitude 38°17′39″ N, longitude 076°25′47″ W; thence to latitude 38°17′47″ N, longitude 076°26′00″ W; thence to latitude 38°18′09″ N, longitude 076°25′40″ W; thence to latitude 38°18′00″ N, longitude 076°25′25″ W, located along the shoreline at U.S. Naval Air Station Patuxent River, Maryland, and All waters of the lower Patuxent River, near Solomons, Maryland, located between Hog Point and Cedar Point, within an area bounded by a line drawn from a position at latitude 38°18′41″ N, longitude 076°23′43″ W; to latitude 38°18′16″ N, longitude 076°22′35″ W; thence to latitude 38°18′12″ N, longitude 076°22′37″ W; thence to latitude 38°18′36″ N, longitude 076°23′46″ W, located adjacent to the shoreline at U.S. Naval Air Station Patuxent River, Maryland.
20. | September—2nd, 3rd or 4th Saturday and Sunday | Chesapeake Challenge | Chesapeake Bay Powerboat Association | All waters of the Patuxent River, within boundary lines connecting the following positions; originating near north entrance of MD Route 4 bridge, latitude 38°19′45″ N, longitude 076°28′06″ W, thence southwest to south entrance of MD Route 4 bridge, latitude 38°19′24″ N, longitude 076°28′30″ W, thence south to a point near the shoreline, latitude 38°18′32″ N, longitude 076°28′14″ W, thence southeast to a point near the shoreline, latitude 38°17′38″ N, longitude 076°27′26″ W, thence northeast to latitude 38°18′00″ N, longitude 076°26′41″ W, thence northwest to latitude 38°18′59″ N, longitude 076°27′20″ W, located at Solomons, MD, thence continuing northwest and parallel to shoreline to point of origin.
(c.) Coast Guard Sector Hampton Roads—COTP Zone
1. | April—3rd Saturday and Sunday or 4th Saturday and Sunday | Hydroplane races | Virginia Boat Racing Assn | All waters of the Western Branch, Elizabeth River bounded by a line connecting the following points: latitude 36°50′06″ N, longitude 076° 22′27″ W, thence to latitude 36°50′06″ N, longitude 076° 21′57″ W, thence to latitude 36°50′15″ N, longitude 076° 21′55.8″ W, thence to latitude 36°50′15″ N, longitude 076° 22′27″ W, thence to point of origin.
2. | May—last Friday, Saturday and Sunday or June—1st Friday, Saturday and Sunday | Blackbeard Festival | City of Hampton | The waters of Sunset Creek and Hampton River shore to shore bounded to the north by the C & O Railroad Bridge and to the south by a line drawn from Hampton River Channel Light 16 (LL 5715), located at latitude 37°01′03.0″ N, longitude 76°20′26.0″ W, to the finger pier across the river at Fisherman's Wharf, located at latitude 37°01′01.5″ N, longitude 76°20′32.0″ W. Spectator Vessel Anchorage Areas—Area A: Located in the upper reaches of the Hampton River, bounded to the south by a line drawn from the western shore at latitude 37°01′48.0″ N, longitude 76°20′22.0″ W, across the river to the eastern shore at latitude 37°01′44.0″ N, longitude 76°20′13.0″ W, and to the north by the C & O Railroad Bridge. The anchorage area will be marked by orange buoys. Area B: Located on the eastern side of the channel, in the Hampton River, south of the Queen Street Bridge, near the Riverside Health Center. Bounded by the shoreline and a line drawn between the following points: Latitude 37°01′26.0″ N, longitude 76°20′24.0″ W, latitude 37°01′22.0″ N, longitude 76°20′26.0″ W, and latitude 37°01′22.0″ N, longitude 76°20′23.0″ W. The anchorage area will be marked by orange buoys.
3. | June—1st Friday, Saturday and Sunday or 2nd Friday, Saturday and Sunday | Norfolk Harborfest | Norfolk Festevents, Ltd | The waters of the Elizabeth River and its branches from shore to shore, bounded to the northwest by a line drawn across the Port Norfolk Reach section of the Elizabeth River between the northern corner of the landing at Hospital Point, Portsmouth, Virginia, latitude 36°50′51.0″ N, longitude 076°18′09.0″ W and the north corner of the City of Norfolk Mooring Pier at the foot of Brooks Avenue located at latitude 36°51′00.0″ N, longitude 076°17′52.0″ W; bounded on the southwest by a line drawn from the southern corner of the landing at Hospital Point, Portsmouth, Virginia, at latitude 36°50′50.0″ N, longitude 076°18′10.0″ W, to the northern end of the easternmost pier at the Tidewater Yacht Agency Marina, located at latitude 36°50′29.0″ N, longitude 076°17′52.0″ W; bounded to the south by a line drawn across the Lower Reach of the Southern Branch of the Elizabeth River, between the Portsmouth Lightship Museum located at the foot of London Boulevard, in Portsmouth, Virginia at latitude 36°50′10.0″ N, longitude 076°17′47.0″ W, and the northwest corner of the Norfolk Shipbuilding & Drydock, Berkley Plant, Pier No. 1, located at latitude 36°50′08.0″ N, longitude 076°17′39.0″ W; and to the southeast by the Berkley Bridge which crosses the Eastern Branch of the Elizabeth River between Berkley at latitude 36°50′21.5″ N, longitude 076°17′14.5″ W, and Norfolk at latitude 36°50′35.0″ N, longitude 076°17′10.0″ W.
4. | May—Last Saturday and Sunday or June—1st Saturday and Sunday | Ocean City Maryland Offshore Grand Prix | Offshore Performance Assn. Racing, LLC | The waters of the Atlantic Ocean commencing at a point on the shoreline at latitude 38°25′42″ N, longitude 075°03′06″ W; thence east southeast to latitude 38°25′30″ N, longitude 075°02′12″ W, thence south southwest parallel to the Ocean City shoreline to latitude 38°19′12″ N, longitude 075°03′48″ W; thence west northwest to the shoreline at latitude 38°19′30″ N, longitude 075°05′00″ W. The waters of the Atlantic Ocean bounded by a line drawn from a position along the shoreline near Ocean City, MD at latitude 38°22′25.2″ N, longitude 075°03′49.4″ W, thence easterly to latitude 38°22′00.4″ N, longitude 075°02′34.8″ W, thence southwesterly to latitude 38°19′35.9″ N, longitude 075°03′35.4″ W, thence westerly to a position near the shoreline at latitude 38°20′05″ N, longitude 075°04′48.4″ W, thence northerly along the shoreline to the point of origin.
5. | June—3rd or 4th Saturday | Cock Island Race | Portsmouth Boat Club & City of Portsmouth, VA | The waters of the Elizabeth River and its branches from shore to shore, bounded to the northwest by a line drawn across the Port Norfolk Reach section of the Elizabeth River between the northern corner of the landing at Hospital Point, Portsmouth, Virginia, latitude 36°50′51.0″ N, longitude 076°18′09.0″ W and the north corner of the City of Norfolk Mooring Pier at the foot of Brooks Avenue located at latitude 36°51′00.0″ N, longitude 076°17′52.0″ W; bounded on the southwest by a line drawn from the southern corner of the landing at Hospital Point, Portsmouth, Virginia, at latitude 36°50′50.0″ N, longitude 076°18′10.0″ W, to the northern end of the easternmost pier at the Tidewater Yacht Agency Marina, located at latitude 36°50′29.0″ N, longitude 076°17′52.0″ W; bounded to the south by a line drawn across the Lower Reach of the Southern Branch of the Elizabeth River, between the Portsmouth Lightship Museum located at the foot of London Boulevard, in Portsmouth, Virginia at latitude 36°50′10.0″ N, longitude 076°17′47.0″ W, and the northwest corner of the Norfolk Shipbuilding & Drydock, Berkley Plant, Pier No. 1, located at latitude 36°50′08.0″ N, longitude 076°17′39.0″ W; and to the southeast by the Berkley Bridge which crosses the Eastern Branch of the Elizabeth River between Berkley at latitude 36°50′21.5″ N, longitude 076°17′14.5″ W, and Norfolk at latitude 36°50′35.0″ N, longitude 076°17′10.0″ W.
6. | June—last Saturday or July—1st Saturday | RRBA Spring Radar Shootout | Rappahannock River Boaters Association (RRBA) | The waters of the Rappahannock River, adjacent to Layton, VA, from shoreline to shoreline, bounded on the west by a line running along longitude 076°58′30″ W, and bounded on the east by a line running along longitude 076°56′00″ W.
7. | July—last Wednesday and following Friday or August—first Wednesday and following Friday | Pony Penning Swim | Chincoteague Volunteer Fire Department | The waters of Assateague Channel from shoreline to shoreline, bounded to the east by a line drawn from latitude 37°55′01″ N, longitude 075°22′40″ W, to latitude 37°54′50″ N, longitude 075°22′46″ W, and to the west by a line drawn from latitude 37°54′54.0″ N, longitude 075°23′00″ W, to latitude 37°54′49″ N, longitude 075°22′49″ W.
8. | August—2nd Friday, Saturday and Sunday | Hampton Cup Regatta | Hampton Cup Regatta Boat Club | The waters of Mill Creek, adjacent to Fort Monroe, Hampton, Virginia, enclosed by the following boundaries: to the north, a line drawn along latitude 37°01′00″ N, to the east a line drawn along longitude 076°18′30″ W, to the south a line parallel with the shoreline adjacent to Fort Monroe, and the west boundary is parallel with the Route 258—Mercury Boulevard Bridge.
9. | September—2nd Friday, Saturday and Sunday or 3rd Friday, Saturday and Sunday | Hampton Bay Days Festival | Hampton Bay Days Inc | The waters of Sunset Creek and Hampton River shore to shore bounded to the north by the C & O Railroad Bridge and to the south by a line drawn from Hampton River Channel Light 16 (LL 5715), located at latitude 37°01′03.0″ N, longitude 076°20′26.0″ W, to the finger pier across the river at Fisherman's Wharf, located at latitude 37°01′01.5″ N, longitude 076°20′32.0″ W.
10. | October—2nd Sunday or 3rd Sunday | Poquoson Seafood Festival Workboat Races | City of Poquoson | The waters of the Back River, Poquoson, Virginia, bounded on the north by a line drawn along latitude 37°06′30″ N, bounded on the south by a line drawn along latitude 37°06′15″ N, bounded on the east by a line drawn along longitude 076°18′52″ W and bounded on the west by a line drawn along longitude 076°19′30″ W.
11. | August—3rd Saturday and Sunday or 4th Saturday and Sunday | Mattaponi Drag Boat Race | Mattaponi Volunteer Rescue Squad and Dive Team | All waters of Mattaponi River immediately adjacent to Rainbow Acres Campground, King and Queen County, Virginia. The regulated area includes a section of the Mattaponi River approximately three-quarter mile long and bounded in width by each shoreline, bounded to the east by a line that runs parallel along longitude 076°52′43″ W, near the mouth of Mitchell Hill Creek, and bounded to the west by a line that runs parallel along longitude 076°53′41″ W just north of Wakema, Virginia.
(d.) Coast Guard Sector North Carolina—COTP Zone
1. | June—1st Saturday and Sunday | Carolina Cup Regatta | Virginia Boat Racing Assn | The waters of the Pasquotank River, adjacent to Elizabeth City, NC, from shoreline to shoreline, bounded on the west by the Elizabeth City Draw Bridge and bounded on the east by a line originating at a point along the shoreline at latitude 36°17′54″ N, longitude 076°12′00″ W, thence southwesterly to latitude 36°17′35″ N, longitude 076°12′18″ W at Cottage Point.
2. | August—1st Friday, Saturday and Sunday | SBIP—Fountain Powerboats Kilo Run and Super Boat Grand Prix | Super Boat International Productions (SBIP), Inc. | The waters of the Pamlico River including Chocowinity Bay, from shoreline to shoreline, bounded on the south by a line running northeasterly from Camp Hardee at latitude 35°28′23″ N, longitude 076°59′23″ W, to Broad Creek Point at latitude 35°29′04″ N, longitude 076°58′44″ W, and bounded on the north by the Norfolk Southern Railroad Bridge.
3. | September—3rd and or 4th or last Sunday | Crystal Coast Grand Prix | North Carolina East Sports, Inc. N/P | The waters of Bogue Sound, adjacent to Morehead City, NC, from the southern tip of Sugar Loaf Island approximate position latitude 34°42′55″ N, longitude 076°42′48″ W, thence westerly to Morehead City Channel Day beacon 7 (LLNR 38620), thence southwest along the channel line to Bogue Sound Light 4 (LLRN 38770), thence southerly to Causeway Channel Day beacon 2 (LLNR 38720), thence southeasterly to Money Island Day beacon 1 (LLNR 38645), thence easterly to Eight and One Half Marina Day beacon 2 (LLNR 38685), thence easterly to the western most shoreline of Brant Island approximate position latitude 34°42′36″ N, longitude 076°42′11″ W, thence northeasterly along the shoreline to Tombstone Point approximate position latitude 34°42′14″ N, longitude 076°41′20″ W, thence southeasterly to the east end of the pier at Coast Guard Sector North Carolina approximate position latitude 34°42′00″ N, longitude 076°40′52″ W, thence easterly to Morehead City Channel Buoy 20 (LLNR 29427), thence northerly to Beaufort Harbor Channel LT 1BH (LLNR 34810), thence northwesterly to the southern tip of Radio Island approximate position latitude 34°42′22″ N, longitude 076°40′52″ W, thence northerly along the shoreline to approximate position latitude 34°43′00″ N, longitude 076°41′25″ W, thence westerly to the North Carolina State Port Facility, thence westerly along the State Port to the southwest corner approximate position latitude 34°42′55″ N, longitude 076°42′12″ W, thence westerly to the southern tip of Sugar Loaf Island, the point of origin.
4. | September—3rd, 4th or last Saturday; October—last Saturday; November—1st and or 2nd Saturday | Wilmington YMCA Triathlon | Wilmington, NC, YMCA | The waters of, and adjacent to, Wrightsville Channel, from Wrightsville Channel Day beacon 14 (LLNR 28040), located at 34°12′18″ N, longitude 077°48′10″ W, to Wrightsville Channel Day beacon 25 (LLNR 28080), located at 34°12′51″ N, longitude 77°48′53″ W.
5. | August—2nd Saturday | The Crossing | Organization to Support the Arts, Infrastructure, and Learning on Lake Gaston, AKA O'SAIL | All waters of Lake Gaston, from shoreline to shoreline, directly under the length of Eaton Ferry Bridge (NC State Route 903), latitude 36°31′06″ N, longitude 077°57′37″ W, bounded to the west by a line drawn parallel and 100 yards from the western side of Eaton Ferry Bridge near Littleton, NC.

PART 165—REGULATED NAVIGATION AREAS AND LIMITED ACCESS AREAS

3. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

4. Amend § 165.506 by revising the section heading and Table to § 165.506 to read as follows:

§ 165.506 Safety Zones; Fireworks Displays in the Fifth Coast Guard District.

* * * * *

All coordinates listed in the Table to § 165.506 reference Datum NAD 1983.

Table to § 165.506
No. | Date | Location | Regulated area
(a.) Coast Guard Sector Delaware Bay—COTP Zone
1. | July 4th | North Atlantic Ocean, Bethany Beach, DE, Safety Zone | The waters of the North Atlantic Ocean within a 500 yard radius of the fireworks barge in approximate position latitude 38°32′08″ N, longitude 075°03′15″ W, adjacent to shoreline of Bethany Beach, DE.
2. | Labor Day | Indian River Bay, DE, Safety Zone | All waters of the Indian River Bay within a 700 yard radius of the fireworks launch location on the pier in approximate position latitude 38°36′42″ N, longitude 075°08′18″ W.
3. | July 4th | North Atlantic Ocean, Rehoboth Beach, DE, Safety Zone | All waters of the Atlantic Ocean within a 360 yard radius of the fireworks barge in approximate position latitude 38°43′01.2″ N, longitude 075°04′21″ W, approximately 400 yards east of Rehoboth Beach, DE.
4. | July 4th | North Atlantic Ocean, Avalon, NJ, Safety Zone | The waters of the North Atlantic Ocean within a 500 yard radius of the fireworks barge in approximate location latitude 39°06′19.5″ N, longitude 074°42′02.15″ W, in the vicinity of the shoreline at Avalon, NJ.
5. | July 4th. September—2nd Saturday | Barnegat Bay, Barnegat Township, NJ, Safety Zone | The waters of Barnegat Bay within a 500 yard radius of the fireworks barge in approximate position latitude 39°44′50″ N, longitude 074°11′21″ W, approximately 500 yards north of Conklin Island, NJ.
6. | July 4th | North Atlantic Ocean, Cape May, NJ, Safety Zone | The waters of the North Atlantic Ocean within a 500 yard radius of the fireworks barge in approximate location latitude 38°55′36″ N, longitude 074°55′26″ W, immediately adjacent to the shoreline at Cape May, NJ.
7. | July 3rd | Delaware Bay, North Cape May, NJ, Safety Zone | All waters of the Delaware Bay within a 360 yard radius of the fireworks barge in approximate position latitude 38°58′00″ N, longitude 074°58′30″ W.
8. | August—3rd Sunday | Great Egg Harbor Inlet, Margate City, NJ, Safety Zone | All waters within a 500 yard radius of the fireworks barge in approximate location latitude 39°19′33″ N, longitude 074°31′28″ W, on the Intracoastal Waterway near Margate City, NJ.
9. | July 4th. August—every Thursday. September—1st Thursday | Metedeconk River, Brick Township, NJ, Safety Zone | The waters of the Metedeconk River within a 300 yard radius of the fireworks launch platform in approximate position latitude 40°03′24″ N, longitude 074°06′42″ W, near the shoreline at Brick Township, NJ.
10. | July—1st Friday | North Atlantic Ocean, Atlantic City, NJ, Safety Zone | The waters of the North Atlantic Ocean within a 500 yard radius of the fireworks barge located at latitude 39°20′58″ N, longitude 074°25′58″ W, near the shoreline at Atlantic City, NJ.
11. | July 4th. October—1st Saturday | North Atlantic Ocean, Ocean City, NJ, Safety Zone | The waters of the North Atlantic Ocean within a 500 yard radius of the fireworks barge in approximate location latitude 39°16′22″ N, longitude 074°33′54″ W, in the vicinity of the shoreline at Ocean City, NJ.
12. | May—4th Saturday | Barnegat Bay, Ocean Township, NJ, Safety Zone | All waters of Barnegat Bay within a 500 yard radius of the fireworks barge in approximate position latitude 39°47′33″ N, longitude 074°10′46″ W.
13. | July 4th | Little Egg Harbor, Parker Island, NJ, Safety Zone | All waters of Little Egg Harbor within a 500 yard radius of the fireworks barge in approximate position latitude 39°34′18″ N, longitude 074°14′43″ W, approximately 100 yards north of Parkers Island.
14. | September—3rd Saturday | Delaware River, Chester, PA, Safety Zone | All waters of the Delaware River near Chester, PA just south of the Commodore Barry Bridge within a 250 yard radius of the fireworks barge located in approximate position latitude 39°49′43.2″ N, longitude 075°22′42″ W.
15. | September—3rd Saturday | Delaware River, Essington, PA, Safety Zone | All waters of the Delaware River near Essington, PA, west of Little Tinicum Island within a 250 yard radius of the fireworks barge located in the approximate position latitude 39°51′18″ N, longitude 075°18′57″ W.
16. | July 3rd, 4th or 5th, Columbus Day, December 31st, January 1st | Delaware River, Philadelphia, PA, Safety Zone | All waters of Delaware River, adjacent to Penns Landing, Philadelphia, PA, bounded from shoreline to shoreline, bounded on the south by a line running east to west from points along the shoreline at latitude 39°56′31.2″ N, longitude 075°08′28.1″ W; thence to latitude 39°56′29.1″ N, longitude 075°07′56.5″ W, and bounded on the north by the Benjamin Franklin Bridge.
(b.) Coast Guard Sector Baltimore—COTP Zone
1. | April—1st or 2nd Saturday | Washington Channel, Upper Potomac River, Washington, DC, Safety Zone | All waters of the Upper Potomac River within a 150 yard radius of the fireworks barge in approximate position latitude 38°52′20″ N, longitude 077°01′17″ W, located within the Washington Channel in Washington Harbor, DC.
2. | July 4th. December—1st and 2nd Saturday, December 31st | Severn River and Spa Creek, Annapolis, MD, Safety Zone | All waters of the Severn River and Spa Creek within an area bounded by a line drawn from latitude 38°58′40″ N, longitude 076°28′49″ W; thence to latitude 38°58′33″ N, longitude 076°28′49″ W; thence to latitude 38°58′45″ N, longitude 076°28′07″ W; thence to latitude 38°59′01″ N, longitude 076°28′37″ W, thence to latitude 38°58′57″ N, longitude 076°28′40″ W, thence to latitude 38°58′53″ N, longitude 076°28′34″ W, thence to point of origin; located near the entrance to Spa Creek and Severn River, Annapolis, MD.
3. | Saturday before Independence Day holiday | Middle River, Baltimore County, MD, Safety Zone | All waters of the Middle River within a 300 yard radius of the fireworks barge in approximate position latitude 39°17′45″ N, longitude 076°23′49″ W, approximately 300 yards east of Rockaway Beach, near Turkey Point.
4. | June—last Saturday. July—3rd, 4th or last Saturday or Sunday | Potomac River, Charles County, MD—Newburg, Safety Zone | All waters of the Potomac River within a 200 yard radius of the fireworks barge in approximate position latitude 38°23′41″ N, longitude 076°59′30″ W, located near Newburg, Maryland.
5. | June 14th, July 4th. September—2nd Saturday. December 31st | Northwest Harbor (East Channel), Patapsco River, MD, Safety Zone | All waters of the Patapsco River within a 300 yard radius of the fireworks barge in approximate position 39°15′55″ N, 076°34′33″ W, located adjacent to the East Channel of Northwest Harbor.
6. | May—2nd or 3rd Thursday or Friday. July 4th. December 31st | Baltimore Inner Harbor, Patapsco River, MD, Safety Zone | All waters of the Patapsco River within a 100 yard radius of the fireworks barge in approximate position latitude 39°17′01″ N, longitude 076°36′31″ W, located at the entrance to Baltimore Inner Harbor, approximately 125 yards southwest of pier 3.
7. | May—2nd or 3rd Thursday or Friday. July 4th. December 31st | Baltimore Inner Harbor, Patapsco River, MD, Safety Zone | The waters of the Patapsco River within a 100 yard radius of approximate position latitude 39°17′04″ N, longitude 076°36′36″ W, located in Baltimore Inner Harbor, approximately 125 yards southeast of pier 1.
8. | July 4th. December 31st | Northwest Harbor (West Channel) Patapsco River, MD, Safety Zone | All waters of the Patapsco River within a 300 yard radius of the fireworks barge in approximate position latitude 39°16′21″ N, longitude 076°34′38″ W, located adjacent to the West Channel of Northwest Harbor.
9. | July 4th | Patuxent River, Calvert County, MD, Safety Zone | All waters of the Patuxent River within a 200 yard radius of the fireworks barge located at latitude 38°19′17″ N, longitude 076°27′45″ W, approximately 800 feet from shore at Solomons Island, MD.
10. | July 3rd | Chesapeake Bay, Chesapeake Beach, MD, Safety Zone | All waters of the Chesapeake Bay within a 150 yard radius of the fireworks barge in approximate position latitude 38°41′36″ N, longitude 076°31′30″ W, and within a 150 yard radius of the fireworks barge in approximate position latitude 38°41′28″ N, longitude 076°31′29″ W, located near Chesapeake Beach, Maryland.
11. | July 4th | Choptank River, Cambridge, MD, Safety Zone | All waters of the Choptank River within a 300 yard radius of the fireworks launch site at Great Marsh Point, located at latitude 38°35′06″ N, longitude 076°04′46″ W.
12. | July—2nd or 3rd Saturday and last Saturday | Potomac River, Fairview Beach, Charles County, MD, Safety Zone | All waters of the Potomac River within a 300 yard radius of the fireworks barge in approximate position latitude 38°19′57″ N, longitude 077°14′40″ W, located north of the shoreline at Fairview Beach, Virginia.
13. | May—last Saturday. July 4th | Potomac River, Charles County, MD—Mount Vernon, Safety Zone | All waters of the Potomac River within an area bound by a line drawn from the following points: latitude 38°42′30″ N, longitude 077°04′47″ W; thence to latitude 38°42′18″ N, longitude 077°04′42″ W; thence to latitude 38°42′11″ N, longitude 077°05′10″ W; thence to latitude 38°42′22″ N, longitude 077°05′12″ W; thence to point of origin located along the Potomac River shoreline at George Washington's Mount Vernon Estate, Fairfax County, VA.
14. | October—1st Saturday | Dukeharts Channel, Potomac River, MD, Safety Zone | All waters of the Potomac River within a 300 yard radius of the fireworks barge in approximate position latitude 38°13′27″ N, longitude 076°44′48″ W, located adjacent to Dukeharts Channel near Coltons Point, Maryland.
15. | July—Day before Independence Day holiday and July 4th. November—3rd Thursday, 3rd Saturday and last Friday. December—1st, 2nd and 3rd Friday | Potomac River, National Harbor, MD, Safety Zone | All waters of the Potomac River within an area bound by a line drawn from the following points: latitude 38°47′13″ N, longitude 077°00′58″ W; thence to latitude 38°46′51″ N, longitude 077°01′15″ W; thence to latitude 38°47′25″ N, longitude 077°01′33″ W; thence to latitude 38°47′32″ N, longitude 077°01′08″ W; thence to the point of origin, located at National Harbor, Maryland.
16. | Sunday before July 4th, July 4th | Susquehanna River, Havre de Grace, MD, Safety Zone | All waters of the Susquehanna River within a 300 yard radius of approximate position latitude 39°32′06″ N, longitude 076°05′22″ W, located on the island at Millard Tydings Memorial Park.
17. | June and July—Saturday before Independence Day holiday | Miles River, St. Michaels, MD, Safety Zone | All waters of the Miles River within a 200 yard radius of approximate position latitude 38°47′42″ N, longitude 076°12′51″ W, located at the entrance to Long Haul Creek.
18. | July 3rd | Tred Avon River, Oxford, MD, Safety Zone | All waters of the Tred Avon River within a 150 yard radius of the fireworks barge in approximate position latitude 38°41′24″ N, longitude 076°10′37″ W, approximately 500 yards northwest of the waterfront at Oxford, MD.
19. | July 3rd | Northeast River, North East, MD, Safety Zone | All waters of the Northeast River within a 300 yard radius of the fireworks barge in approximate position latitude 39°35′26″ N, longitude 075°57′00″ W, approximately 400 yards south of North East Community Park.
20. | June—2nd or 3rd Saturday. July—1st, 2nd or 3rd Saturday. September—1st or 2nd Saturday. December 31st | Upper Potomac River, Washington, D.C., Safety Zone | All waters of the Upper Potomac River within a 300 yard radius of the fireworks barge in approximate position 38°48′40″ N, 077°02′07″ W, located near the waterfront of Alexandria, Virginia.
21. | March through October, at the conclusion of evening MLB games at Washington Nationals Ball Park | Anacostia River, Washington, D.C., Safety Zone | All waters of the Anacostia River within a 150 yard radius of the fireworks barge in approximate position latitude 38°52′13″ N, longitude 077°00′16″ W, located near the Washington Nationals Ball Park.
22. | June—last Saturday or July—first Saturday. July—3rd, 4th or last Saturday or Sunday | Potomac River, Prince William County, VA, Safety Zone | All waters of the Potomac River within a 200 yard radius of the fireworks barge in approximate position latitude 38°34′10″ N, longitude 077°15′36″ W, located near Cherry Hill, Virginia.
(c.) Coast Guard Sector Hampton Roads—COTP Zone
1. | July 4th | North Atlantic Ocean, Ocean City, MD, Safety Zone | All waters of the Atlantic Ocean in an area bound by the following points: latitude 38°19′39.9″ N, longitude 075°05′03.2″ W; thence to latitude 38°19′36.7″ N, longitude 075°04′53.5″ W; thence to latitude 38°19′45.6″ N, longitude 075°04′49.3″ W; thence to latitude 38°19′49.1″ N, longitude 075°05′00.5″ W; thence to point of origin. The size of the safety zone extends approximately 300 yards offshore from the fireworks launch area located at the high water mark on the beach.
2. | May—4th Sunday. June—3rd Monday, and June 29th. July 4th. August—1st and 4th Sunday. September—1st and 4th Sunday | Isle of Wight Bay, Ocean City, MD, Safety Zone | All waters of Isle of Wight Bay within a 350 yard radius of the fireworks barge in approximate position latitude 38°22′32″ N, longitude 075°04′30″ W.
3. | July 4th | Assawoman Bay, Fenwick Island—Ocean City, MD, Safety Zone | All waters of Assawoman Bay within a 360 yard radius of the fireworks launch location on the pier at the West end of Northside Park, in approximate position latitude 38°25′57.6″ N, longitude 075°03′55.8″ W.
4. | July 4th | Broad Bay, Virginia Beach, VA, Safety Zone | All waters of the Broad Bay within a 400 yard radius of the fireworks display in approximate position latitude 36°52′7″ N, longitude 076°00′23″ W, located on the shoreline near the Cavalier Golf and Yacht Club, Virginia Beach, Virginia.
5. | October—1st Friday | York River, West Point, VA, Safety Zone | All waters of the York River near West Point, VA within a 400 yard radius of the fireworks display located in approximate position latitude 37°31′25″ N, longitude 076°47′19″ W.
6. | July 4th | York River, Yorktown, VA, Safety Zone | All waters of the York River within a 400 yard radius of the fireworks display in approximate position latitude 37°14′14″ N, longitude 076°30′02″ W, located near Yorktown, Virginia.
7. | May—1st Friday. July 4th | James River, Newport News, VA, Safety Zone | All waters of the James River within a 325 yard radius of the fireworks barge in approximate position latitude 36°58′30″ N, longitude 076°26′19″ W, located in the vicinity of the Newport News Shipyard, Newport News, Virginia.
8. | June—4th Friday. July—1st Friday. July 4th | Chesapeake Bay, Norfolk, VA, Safety Zone | All waters of the Chesapeake Bay within a 400 yard radius of the fireworks display located in position latitude 36°57′21″ N, longitude 076°15′00″ W, located near Ocean View Fishing Pier.
9. | July 4th | Chesapeake Bay, Virginia Beach, VA, Safety Zone | All waters of the Chesapeake Bay 400 yard radius of the fireworks display in approximate position latitude 36°55′02″ N, longitude 076°03′27″ W, located at the First Landing State Park at Virginia Beach, Virginia.
10. | Memorial Day. June—1st and 2nd Friday, Saturday and Sunday. July 4th. November—4th Saturday. December—1st Saturday and December 31st. January—1st | Elizabeth River, Southern Branch, Norfolk, VA, Safety Zone | All waters of the Elizabeth River Southern Branch in an area bound by the following points: latitude 36°50′54.8″ N, longitude 076°18′10.7″ W; thence to latitude 36°51′7.9″ N, longitude 076°18′01″ W; thence to latitude 36°50′45.6″ N, longitude 076°17′44.2″ W; thence to latitude 36°50′29.6″ N, longitude 076°17′23.2″ W; thence to latitude 36°50′7.7″ N, longitude 076°17′32.3″ W; thence to latitude 36°49′58″ N, longitude 076°17′28.6″ W; thence to latitude 36°49′52.6″ N, longitude 076°17′43.8″ W; thence to latitude 36°50′27.2″ N, longitude 076°17′45.3″ W thence to the point of origin.
11. | July—3rd Saturday | John H. Kerr Reservoir, Clarksville, VA, Safety Zone | All waters of John H. Kerr Reservoir within a 400 yard radius of approximate position latitude 36°37′51″ N, longitude 078°32′50″ W, located near the center span of the State Route 15 Highway Bridge.
12. | May, June, July, August, September, October—every Wednesday, Friday, Saturday and Sunday. July 4th | North Atlantic Ocean, Virginia Beach, VA, Safety Zone A | All waters of the Atlantic Ocean within a 1000 yard radius of the center located near the shoreline at approximate position latitude 36°51′12″ N, longitude 075°58′06″ W, located off the beach between 17th and 31st streets.
13. | September—last Saturday or October—1st Saturday | North Atlantic Ocean, VA Beach, VA, Safety Zone B | All waters of the Atlantic Ocean within a 350 yard radius of approximate position latitude 36°50′35″ N, longitude 075°58′09″ W, located on the 14th Street Fishing Pier.
14. | Friday, Saturday, Sunday and Monday—Labor Day Weekend | North Atlantic Ocean, VA Beach, VA, Safety Zone C | All waters of the Atlantic Ocean within a 350 yard radius of approximate position latitude 36°49′55″ N, longitude 075°58′00″ W, located off the beach between 2nd and 6th streets.
15. | July 4th | Nansemond River, Suffolk, VA, Safety Zone | All waters of the Nansemond River within a 350 yard radius of approximate position latitude 36°44′27″ N, longitude 076°34′42″ W, located near Constant's Wharf in Suffolk, VA.
16. | February—4th Saturday. July 4th | Chickahominy River, Williamsburg, VA, Safety Zone | All waters of the Chickahominy River within a 400 yard radius of the fireworks display in approximate position latitude 37°14′50″ N, longitude 076°52′17″ W, near Barrets Point, Virginia.
17. | July—3rd, 4th and 5th | Great Wicomico River, Mila, VA, Safety Zone | All waters of the Great Wicomico River located within a 420 foot radius of the fireworks display at approximate position latitude 37°50′31″ N, longitude 076°19′42″ W near Mila, Virginia.
18. | July—1st Friday, Saturday and Sunday | Cockrell′s Creek, Reedville, VA, Safety Zone | All waters of Cockrell′s Creek located within a 420 foot radius of the fireworks display at approximate position latitude 37°49′54″ N, longitude 076°16′44″ W near Reedville, Virginia.
19. | May—last Sunday | James River, Richmond, VA, Safety Zone | All waters of the James River located within a 420 foot radius of the fireworks display at approximate position latitude 37°31′13.1″ N, longitude 077°25′07.84″ W near Richmond, Virginia.
20. | June—last Saturday | Rappahannock River, Tappahannock, VA, Safety Zone | All waters of the Rappahannock River located within a 400 foot radius of the fireworks display at approximate position latitude 37°55′12.0″ N, longitude 076°49′12.0″ W near Tappahannock, Virginia.
21. | July 4th | Cape Charles Harbor, Cape Charles, VA, Safety Zone | All waters of Cape Charles Harbor located within a 375 foot radius of the fireworks display at approximate position latitude 37°15′46.5″ N, longitude 076°01′30.3″ W near Cape Charles, Virginia.
22. | July 4th | Pagan River, Smithfield, VA, Safety Zone | All waters of the Pagan River located within a 420 foot radius of the fireworks display at approximate position latitude 36°59′18.0″ N, longitude 076°37′45.0″ W near Smithfield, Virginia.
23. | July 4th | Sandbridge Shores, Virginia Beach, VA, Safety Zone | All waters of Sandbridge Shores located within a 300 foot radius of the fireworks display at approximate position latitude 36°43′24.9″ N, longitude 075°56′24.9″ W near Virginia Beach, Virginia.
24. | July 4th | Chesapeake Bay, Virginia Beach, VA, Safety Zone | All waters of Chesapeake Bay located within a 600 foot radius of the fireworks display at approximate position latitude 36°54′58.18″ N, longitude 076°06′44.3″ W near Virginia Beach, Virginia.
(d.) Coast Guard Sector North Carolina—COTP Zone
1. | July 4th. October—1st Saturday | Morehead City Harbor Channel, NC, Safety Zone | All waters of the Morehead City Harbor Channel that fall within a 360 yard radius of latitude 34°43′01″ N, longitude 076°42′59.6″ W, a position located at the west end of Sugar Loaf Island, NC.
2. | April—2nd Saturday. July 4th. August—3rd Monday. October—1st Saturday | Cape Fear River, Wilmington, NC, Safety Zone | All waters of the Cape Fear River within an area bound by a line drawn from the following points: latitude 34°13′54″ N, longitude 077°57′06″ W; thence northeast to latitude 34°13′57″ N, longitude 077°57′05″ W; thence north to latitude 34°14′11″ N, longitude 077°57′07″ W; thence northwest to latitude 34°14′22″ N, longitude 077°57′19″ W; thence east to latitude 34°14′22″ N, longitude 077°57′06″ W; thence southeast to latitude 34°14′07″ N, longitude 077°57′00″ W; thence south to latitude 34°13′54″ N, longitude 077°56′58″ W; thence to the point of origin, located approximately 500 yards north of Cape Fear Memorial Bridge.
3. | July—1st Saturday and July 4th | Green Creek and Smith Creek, Oriental, NC, Safety Zone | All waters of Green Creek and Smith Creek that fall within a 300 yard radius of the fireworks launch site at latitude 35°01′29.6″ N, longitude 076°42′10.4″ W, located near the entrance to the Neuse River in the vicinity of Oriental, NC.
4. | July 4th | Pasquotank River, Elizabeth City, NC, Safety Zone | All waters of the Pasquotank River within a 300 yard radius of the fireworks launch barge in approximate position latitude 36°17′47″ N, longitude 076°12′17″ W, located approximately 400 yards north of Cottage Point, NC.
5. | July 4th, or July 5th | Currituck Sound, Corolla, NC, Safety Zone | All waters of the Currituck Sound within a 300 yard radius of the fireworks barge in approximate position latitude 36°22′23.8″ N, longitude 075°49′56.3″ W.
6. | July 4th. November—3rd Saturday | Middle Sound, Figure Eight Island, NC, Safety Zone | All waters of the Figure Eight Island Causeway Channel from latitude 34°16′32″ N, longitude 077°45′32″ W, thence east along the marsh to a position located at latitude 34°16′19″ N, longitude 077°44′55″ W, thence south to the causeway at position latitude 34°16′16″ N, longitude 077°44′58″ W, thence west along the shoreline to position latitude 34°16′29″ N, longitude 077°45′34″ W, thence back to the point of origin.
7. | June—2nd Saturday. July 4th | Pamlico River, Washington, NC, Safety Zone | All waters of Pamlico River and Tar River within a 300 yard radius of latitude 35°32′25″ N, longitude 077°03′42″ W, a position located on the southwest shore of the Pamlico River, Washington, NC
8. | July 4th | Neuse River, New Bern, NC, Safety Zone | All waters of the Neuse River within a 360 yard radius of the fireworks barge in approximate position latitude 35°06′07.1″ N, longitude 077°01′35.8″ W; located 420 yards north of the New Bern, Twin Span, high rise bridge.
9. | July 4th | Edenton Bay, Edenton, NC, Safety Zone | All waters within a 300 yard radius of position latitude 36°03′04″ N, longitude 076°36′18″ W, approximately 150 yards south of the entrance to Queen Anne Creek, Edenton, NC.
10. | July 4th. November—Saturday following Thanksgiving | Motts Channel, Banks Channel, Wrightsville Beach, NC, Safety Zone | All waters of Motts Channel within a 500 yard radius of the fireworks launch site in approximate position latitude 34°12′29″ N, longitude 077°48′27″ W, approximately 560 yards south of Sea Path Marina, Wrightsville Beach, NC.
11. | July 4th | Cape Fear River, Southport, NC, Safety Zone | All waters of the Cape Fear River within a 600 yard radius of the fireworks barge in approximate position latitude 33°54′40″ N, longitude 078°01′18″ W, approximately 700 yards south of the waterfront at Southport, NC.
12. | July 4th | Big Foot Slough, Ocracoke, NC, Safety Zone | All waters of Big Foot Slough within a 300 yard radius of the fireworks launch site in approximate position latitude 35°06′54″ N, longitude 075°59′24″ W, approximately 100 yards west of the Silver Lake Entrance Channel at Ocracoke, NC.
13. | August—1st Tuesday | New River, Jacksonville, NC, Safety Zone | All waters of the New River within a 300 yard radius of the fireworks launch site in approximate position latitude 34°44′45″ N, longitude 077°26′18″ W, approximately one half mile south of the Hwy 17 Bridge, Jacksonville, North Carolina.
14. | July 4th | Pantego Creek, Belhaven, NC, Safety Zone | All waters on the Pantego Creek within a 600 foot radius of the launch site on land at position 35°32′35″ N, 076°37′46″ W.

Dated: April 25, 2013.
Steven H. Ratti,
Rear Admiral, U. S. Coast Guard, Commander, Fifth Coast Guard District.

[FR Doc. 2013-12031 Filed 5-20-13; 8:45 am]

BILLING CODE 9110-04-P